ENVIRONMENTAL PROTECTION AGENCY

40 CFR Part 98

[EPA-HQ-OAR-2015-0526; FRL-9954-42-OAR]

RIN 2060-AS60

2015 Revisions and Confidentiality Determinations for Data Elements Under the Greenhouse Gas Reporting Rule

Correction

In rule document 2016-28564 appearing on pages 89188-89274 in the issue of December 9, 2016, make the following correction:

40 CFR PART 98 [CORRECTED]

On page 89252, Table C-1 to Subpart C of Part 98 is corrected to read as set forth below:

Table C-1 to Subpart C of Part 98—Default CO2 Emission Factors and High Heat Values for Various Types of Fuel
[Default CO2 emission factors and high heat values for various types of fuel]
Fuel type | Default high heat value | Default CO2 emission factor
* * * * * * *
Petroleum products—solid | mmBtu/short ton | kg CO2/mmBtu.
Petroleum Coke | 30.00 | 102.41.
Petroleum products—gaseous | mmBtu/scf | kg CO2/mmBtu.
Propane Gas | 2.516 × 10−³ | 61.46.
* * * * * * *

* * * * *

[FR Doc. C1-2016-28564 Filed 8-30-17; 8:45 am]

BILLING CODE 1301-00-D